DEPARTMENT OF DEFENSE

Department of the Navy

[Docket ID: USN-2010-0004]

Proposed Collection; Comment Request

AGENCY: Department of the Navy, DoD.

ACTION: Notice.

SUMMARY: Office of the Judge Advocate General (OJAG) announces the submission of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 12, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Judge Advocate General, ATTN: Special Assistant for Transformation (SAT), 1322 Patterson Ave SE., Washington Navy Yard, DC 20374-5066, or call SAT at 202-685-5185

Title; Associated Form; and OMB Number: JAGC Applicant Survey; OMB Control Number 0703-TBD.

Needs and Uses: The U. S. Navy Judge Advocate General requires a method to improve recruiting and accession board processes in order to recruit and select the best individuals as judge advocates. A survey will allow the JAG Corps to assess whether certain traits and/or behaviors are indicators of future success in the JAG Corps. If the survey is found to be predictive, it will be a reliable, valid, and fair tool to be used in recruiting and selection decisions.

Affected Public: Individuals applying to be judge advocates in the U. S. Navy JAG Corps.

Annual Burden Hours: 200.

Number of Respondents: approximately 800.

Responses Per Respondent: 1.

Average Burden Per Response: 15 minutes.

Frequency: Survey will be available to individuals who submit an application throughout the year.

SUPPLEMENTARY INFORMATION:

Summary of Information Collection

There are three main facets of a JAG Corps applicant: objective measures such as Law School Admission Test (LSAT) score and grade point average; subjective measures such as personality traits and values; and performance in a structured interview. All three facets must be considered to have a thorough assessment of each applicant. Currently no databases or surveys exist that can provide information on the subjective measures. Routinely administered surveys are the most accurate and cost-effective means for determining personality and value indicators of JAG Corps applicants. As survey responses are collected and work performances assessed, correlations will be analyzed. If survey responses are proven to be predictive of future success in the JAG Corps, the survey will become a mandatory part of the application and will be scored and considered by the accession board along with the objective measures and interview results.

Dated: February 2, 2010.
Patricia L. Toppings,
OSD Federal Register Liaison Officer, Department of Defense.

[FR Doc. 2010-2913 Filed 2-9-10; 8:45 am]

BILLING CODE 5001-06-P